DEPARTMENT OF HEALTH AND HUMAN SERVICES

Food and Drug Administration

[Docket No. FDA-2020-D-1848]

Clinical Drug Interaction Studies With Combined Oral Contraceptives; Guidance for Industry; Availability

AGENCY: Food and Drug Administration, HHS.

ACTION: Notice of availability.

SUMMARY: The Food and Drug Administration (FDA or Agency) is announcing the availability of a final guidance for industry entitled “Clinical Drug Interaction Studies With Combined Oral Contraceptives.” This guidance is intended to help sponsors of investigational new drug applications and new drug applications evaluate the need for drug-drug interaction (DDI) studies with combined oral contraceptives (COCs), design such studies, and determine how to communicate DDI study results and risk mitigation strategies to address potential risks associated with increased or decreased exposure of COCs in labeling. The guidance finalizes the draft guidance “Clinical Drug Interaction Studies With Combined Oral Contraceptives” issued on November 23, 2020.

DATES: The announcement of the guidance is published in the Federal Register on June 9, 2023.

ADDRESSES: You may submit either electronic or written comments on Agency guidances at any time as follows:

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket No. FDA-2020-D-1848 for “Clinical Drug Interaction Studies With Combined Oral Contraceptives.” Received comments will be placed in the docket and, except for those submitted as “Confidential Submissions,” publicly viewable at https://www.regulations.gov or at the Dockets Management Staff between 9 a.m. and 4 p.m., Monday through Friday, 240-402-7500.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.govinfo.gov/content/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852, 240-402-7500.

You may submit comments on any guidance at any time (see 21 CFR 10.115(g)(5)).

Submit written requests for single copies of this guidance to the Division of Drug Information, Center for Drug Evaluation and Research, Food and Drug Administration, 10001 New Hampshire Ave., Hillandale Building, 4th Floor, Silver Spring, MD 20993-0002. Send one self-addressed adhesive label to assist that office in processing your requests. See the SUPPLEMENTARY INFORMATION section for electronic access to the guidance document.

FOR FURTHER INFORMATION CONTACT: Xinning Yang, Center for Drug Evaluation and Research, Food and Drug Administration, 10903 New Hampshire Ave, Silver Spring, MD 20993, 301-796-7412, Xinning.Yang@fda.hhs.gov.

SUPPLEMENTARY INFORMATION:

I. Background

FDA is announcing the availability of a guidance for industry entitled “Clinical Drug Interaction Studies With Combined Oral Contraceptives.” COCs can effectively prevent pregnancy; however, the use of concomitant medications could result in DDIs that affect the safety and/or efficacy of COCs. For example, the induction of drug metabolizing enzymes could cause lower levels of progestin and/or estrogen and compromise the efficacy of COCs, while inhibition of metabolizing enzymes could cause higher levels of these hormones and increase the risk of safety events, such as venous thromboembolism. This guidance discusses when clinical DDI studies with COCs should be conducted. It also provides recommendations on the design and conduct of such studies, including but not limited to, the study population, the choice of COC, study design, pharmacokinetic sampling schedule, and pharmacodynamic assessments. In addition, this guidance discusses the interpretation of results from clinical DDI studies with COCs and whether it is possible to extrapolate the results of such studies to other COCs. This guidance also provides recommendations to sponsors on communicating DDI study results and risk mitigation strategies in labeling to address potential risks associated with increased or decreased exposure of COCs. A decision tree regarding whether a DDI study with a COC is recommended based on the metabolizing enzyme inhibition or induction potential of the investigational drug is also included.

This guidance finalizes the draft guidance entitled “Clinical Drug Interaction Studies With Combined Oral Contraceptives” issued on November 23, 2020 (85 FR 74737). FDA considered comments received on the draft guidance as the guidance was finalized. Changes from the draft to the final guidance include the addition of more explanations/scenarios when a DDI study with COCs may or may not be recommended, clarifications for non-teratogenic drugs that are intended to be used as a combination therapy with teratogenic drugs, removal of food intake recommendations, addition of alternative options for choosing COCs, and more examples of pharmacodynamic parameters for the DDI study.

This guidance is being issued consistent with FDA's good guidance practices regulation (21 CFR 10.115). The guidance represents the current thinking of FDA on “Clinical Drug Interaction Studies With Combined Oral Contraceptives.” It does not establish any rights for any person and is not binding on FDA or the public. You can use an alternative approach if it satisfies the requirements of the applicable statutes and regulations.

II. Paperwork Reduction Act of 1995

While this guidance contains no collection of information, it does refer to previously approved FDA collections of information. Therefore, clearance by the Office of Management and Budget (OMB) under the Paperwork Reduction Act of 1995 (PRA) (44 U.S.C. 3501-3521) is not required for this guidance. The previously approved collections of information are subject to review by OMB under the PRA. The collections of information in 21 CFR part 312 pertaining to investigational new drug applications have been approved under OMB control number 0910-0014. The collections of information in 21 CFR part 314 pertaining to new drug applications have been approved under OMB control number 0910-0001. The collections of information in 21 CFR part 601 pertaining to biologic license applications have been approved under OMB control number 0910-0338. The collections of information in 21 CFR 201.56 and 201.57 pertaining to the content and format of labeling have been approved under OMB control number 0910-0572.

III. Electronic Access

Persons with access to the internet may obtain the guidance at https://www.fda.gov/drugs/guidance-compliance-regulatory-information/guidances-drugs, https://www.fda.gov/regulatory-information/search-fda-guidance-documents, or https://www.regulations.gov.

Dated: June 6, 2023.
Lauren K. Roth,
Associate Commissioner for Policy.

[FR Doc. 2023-12370 Filed 6-8-23; 8:45 am]

BILLING CODE 4164-01-P